DEPARTMENT OF LABOR

Employment and Training Administration

Federal-State Unemployment Compensation Program: Certifications for 2010 under the Federal Unemployment Tax Act

AGENCY: Employment and Training Administration, Labor.

ACTION: Notice.

SUMMARY: The Secretary of Labor signed the annual certifications under the Federal Unemployment Tax Act, 26 U.S.C. 3301 et seq., thereby enabling employers who make contributions to state unemployment funds to obtain certain credits against their liability for the federal unemployment tax. By letter, the certifications were transmitted to the Secretary of the Treasury. The letter and certifications are printed below.

Signed in Washington, DC, on November 1, 2010.
Jane Oates,
Assistant Secretary of Labor, Employment and Training Administration.

BILLING CODE 4510-30-P

[FR Doc. 2010-27899 Filed 11-3-10; 8:45 am]

BILLING CODE 4510-30-C